FEDERAL COMMUNICATIONS COMMISSION

47 CFR Part 52

[WC Docket Nos. 13-97, 07-243, 20-67; IB Docket No. 16-155; FCC 23-75; FR ID 236587]

Numbering Policies for Modern Communications

AGENCY: Federal Communications Commission.

ACTION: Final rule; announcement of effective date.

SUMMARY: In this document, the Wireline Competition Bureau (Bureau) announces that the Office of Management and Budget (OMB) has approved, for a period of three years, the information collection associated with the Commission's revised Numbering Authorization Application rules. This document is consistent with Numbering Policies for Modern Communications, Second Report and Order, FCC 23-75, which stated that the rules subject to OMB approval would become effective upon an announcement in the Federal Register announcing their effective date.

DATES: The amendments to 47 CFR 52.15(g)(3)(ii)(B) through (F), (I), (K), (L), and (N) and (g)(3)(x)(A) (amendatory instruction 3), published at 88 FR 80617, November 20, 2023, are effective on August 8, 2024.

FOR FURTHER INFORMATION CONTACT: Jordan Reth, Competition Policy Division, Wireline Competition Bureau, at (202) 418-1418, or email: Jordan.Reth@fcc.gov. For additional information concerning the Paperwork Reduction Act information collection requirements, contact Nicole Ongele at (202) 418-2991 or Nicole.Ongele@fcc.gov.

SUPPLEMENTARY INFORMATION: On September 21, 2023, the Commission adopted Numbering Policies for Modern Communications, Second Report and Order, FCC 23-75, published at 88 FR 80617, November 20, 2023. In the Second Report and Order, the Commission adopted revisions to 47 CFR 52.15(g). Section 52.15(g) allows interconnected Voice over internet Protocol (VoIP) providers to apply for a blanket authorization from the Commission that, once granted, will allow them to demonstrate that they have the authority to provide service in specific areas, thus enabling them to request numbers directly from the Numbering Administrators. This information collection covers the information and certifications that applicants must submit in order to comply with the Numbering Authorization Application process. The data, information, and documents acquired through this collection will allow interconnected VoIP providers to obtain numbers with minimal burden or delay while also preventing providers from obtaining numbers without first demonstrating that they can deploy and properly utilize such resources. The revisions the Second Report and Order to this information collection are necessary to further stem the tide of illegal robocalls perpetrated by interconnected VoIP providers, to protect the nation's numbering resources from abuse by foreign bad actors, and to advance other important public policy objectives tied to the use of our nation's limited numbering resources. The Commission stated that these rule changes may contain new or modified information collection requirements that the Bureau determined is required under the Paperwork Reduction Act.

On April 19, 2024, OMB approved, for a period of three years, the information collection requirements relating to the Numbering Authorization Application rules contained in the Second Report and Order. The OMB Control Number is 3060-1214. The Bureau publishes this document as an announcement of the effective date of the direct access authorization rules adopted in the Second Report and Order. If you have any comments on the burden estimates listed below, or how the Commission can improve the collections and reduce any burdens caused thereby, please contact Nicole Ongele, Federal Communications Commission, 45 L Street NE, Washington, DC 20554. Please include the OMB Control Number 3060-1214 in your correspondence. The Commission also will accept your comments via email at PRA@fcc.gov. To request materials in accessible formats for people with disabilities (Braille, large print, electronic files, audio format), send an email to fcc504@fcc.gov or call the Consumer and Governmental Affairs Bureau at (202) 418-0530 (voice), (202) 418-0432 (TTY).

Synopsis

As required by the Paperwork Reduction Act of 1995 (44 U.S.C. 3507), the Bureau is notifying the public that it received final OMB approval on April 19, 2024, for the information collection requirements contained in the modifications to the Commission's direct access authorization rules in 47 CFR part 52.

Under 5 CFR part 1320, an agency may not conduct or sponsor a collection of information unless it displays a current, valid OMB Control Number.

No person shall be subject to any penalty for failing to comply with a collection of information subject to the Paperwork Reduction Act that does not display a current, valid OMB Control Number.

The foregoing notification is required by the Paperwork Reduction Act of 1995, Public Law 104-13, October 1, 1995, and 44 U.S.C. 3507.

The total annual reporting burdens and costs for the affected respondents are as follows:

OMB Control Number: 3060-1214.

OMB Approval Date: April 19, 2024.

OMB Expiration Date: April 30, 2027.

Title: Direct Access to Numbers Order, FCC 15-70, Conditions.

Form Number: N/A.

Type of Review: Revision of a currently-approved collection.

Respondents: Business or other for-profit entities.z

Number of Respondents and Responses: 20 respondents; 20 responses.

Estimated Time per Response: 10-35 hours.

Frequency of Response: One-time, ongoing and biannual reporting requirements.

Obligation to Respond: Voluntary. Statutory authority for these collections are contained in 47 U.S.C. 251(e)(1) and section 6(a) of the TRACED Act.

Total Annual Burden: 1,100 hours.

Total Annual Cost: No Cost.

Needs and Uses: On June 18, 2015, the Commission adopted a Report and Order establishing the Numbering Authorization Application, which allows interconnected VoIP providers to apply for a blanket authorization from the FCC that, once granted, will allow them to demonstrate that they have the authority to provide service in specific areas, thus enabling them to request numbers directly from the Numbering Administrators. The collection covers the information and certifications that applicants must submit in order to comply with the Numbering Authorization Application process. On September 21, 2023, the Commission adopted a Second Report and Order that strengthens this application process by revising this information collection to ensure the Commission receives sufficient detail from interconnected VoIP applicants to make informed, public-interest-driven decisions about their direct access applications and thereby protect the public from bad actors. This information will continue help the Commission stem the tide of illegal robocalls, protect national security and law enforcement, safeguard the nation's finite numbering resources, reduce the opportunity for regulatory arbitrage, and further promote public safety.

Federal Communications Commission.
Katura Jackson,
Federal Register Liaison Officer.

[FR Doc. 2024-17346 Filed 8-7-24; 8:45 am]

BILLING CODE 6712-01-P